DEPARTMENT OF THE INTERIOR

Bureau of Ocean Energy Management, Regulation and Enforcement

[Docket No. BOEM-2011-0053]

Commercial Wind Lease Issuance and Site Characterization Activities on the Atlantic Outer Continental Shelf (OCS) Offshore New Jersey, Delaware, Maryland, and Virginia

AGENCY: Bureau of Ocean Energy Management, Regulation and Enforcement (BOEMRE), Interior.

ACTION: Notice of the availability of an environmental assessment.

SUMMARY: BOEMRE has prepared a draft environmental assessment (EA) considering the environmental impacts and socioeconomic effects of issuing renewable energy leases (which includes reasonably foreseeable site characterization activities—geophysical, geotechnical, archeological, and biological surveys—on those leases) in identified Wind Energy Areas (WEAs) offshore New Jersey, Delaware, Maryland, and Virginia. The draft EA also considers the reasonably foreseeable environmental impacts and socioeconomic effects associated with the approval of site assessment activities (including the installation and operation of meteorological towers and buoys) on the leases that may be issued.

The purpose of this notice is to inform the public of the availability of the draft EA for review and comment. Public comments on the draft EA will be considered in the preparation of the final EA and determination of whether a Finding of No Significant Impact would be appropriate, or whether an Environmental Impact Statement (EIS) would need to be prepared. The draft EA can be accessed online at: http://www.boemre.gov/offshore/RenewableEnergy/SmartFromTheStart.htm.

Authority: This Notice of Availability (NOA) of an EA is published pursuant to 43 CFR 46.305.

FOR FURTHER INFORMATION CONTACT: Michelle Morin, BOEMRE Office of Offshore Alternative Energy Programs, 381 Elden Street, MS 4090, Herndon, Virginia 20170-4817, (703) 787-1340 or michelle.morin@boemre.gov.

SUPPLEMENTARY INFORMATION: On November 23, 2010, Secretary of the Interior Ken Salazar announced the “Smart from the Start” renewable energy initiative to accelerate the responsible development of renewable energy resources on the Atlantic OCS. One of the focuses of the initiative is the identification and refinement of WEAs (areas on the OCS that appear to be suitable for renewable energy development), within which BOEMRE will focus its leasing efforts. In consultation with other Federal agencies and BOEMRE's Intergovernmental Renewable Energy Task Forces, BOEMRE identified WEAs offshore New Jersey, Delaware, Maryland, and Virginia. On February 9, 2011, BOEMRE identified these WEAs in a Notice of Intent (NOI) to prepare an EA for Mid-Atlantic WEAs (76 FR 7226), which requested public input with regard to the identification of the important environmental issues associated with leasing and site assessment within the identified WEAs, and alternatives to be considered in the EA. BOEMRE considered these public comments in drafting the alternatives and assessing the reasonably foreseeable environmental impacts associated with each. Comments received in response to the NOI can be viewed at http://www.regulations.gov by searching for Docket ID BOEM-2010-0077.

Comments

Federal, state, and local government agencies, tribal governments, and other interested parties are requested to submit their written comments on the draft EA in one of the following ways:

1. Electronically: http://www.regulations.gov. In the entry titled “Enter Keyword or ID,” enter BOEM-2011-0053, then click “search.” Follow the instructions to submit public comments and view supporting and related materials available for this document.

2. In written form, delivered by hand or by mail, enclosed in an envelope labeled “Comments on Mid Atlantic WEA Draft EA” to Program Manager, Office of Offshore Alternative Energy Programs (MS 4090), Bureau of Ocean Energy Management, Regulation and Enforcement, 381 Elden Street, Herndon, Virginia 20170-4817.

Comments should be submitted no later than August 11, 2011. All written comments received during the comment period will be made available to the public and considered during preparation of the final EA.

Dated: June 8, 2011.
Robert P. LaBelle,
Acting Associate Director for Offshore Energy and Minerals Management.

[FR Doc. 2011-17455 Filed 7-11-11; 8:45 am]

BILLING CODE 4310-MR-P